DEPARTMENT OF TRANSPORTATION

Federal Aviation Administration

14 CFR Part 71

[Docket No. FAA-2017-0618; Airspace Docket No. 17-ASW-9]

RIN 2120-AA66

Establishment of Class D Airspace; Burns Flat, OK; Revocation of Class D Airspace; Clinton-Sherman Airport, OK; and Amendment of Class E Airspace for the Following Oklahoma Towns: Burns Flat, OK; Clinton, OK; and Elk City, OK

AGENCY: Federal Aviation Administration (FAA), DOT.

ACTION: Final rule.

SUMMARY: This action establishes Class D airspace at Clinton-Sherman Airport, Burns Flat, OK; removes Class D airspace at Clinton-Sherman Airport, Clinton-Sherman Airport, OK; and amends Class E airspace extending upward from 700 feet above the surface at Clinton-Sherman Airport, Burns Flat, OK; Clinton Municipal Airport, Clinton, OK; and Elk City Regional Business Airport, Elk City, OK. This action is due to the decommissioning of the Sayre co-located VHF omnidirectional range and tactical air navigation (VORTAC) facility, which provided navigation guidance for the instrument procedures to these airports. The VORTAC is being decommissioned as part of the VHF omnidirectional range (VOR) Minimum Operational Network (MON) Program.

DATES: Effective 0901 UTC, September 13, 2018. The Director of the Federal Register approves this incorporation by reference action under Title 1, Code of Federal Regulations, part 51, subject to the annual revision of FAA Order 7400.11 and publication of conforming amendments.

ADDRESSES: FAA Order 7400.11B, Airspace Designations and Reporting Points, and subsequent amendments can be viewed online at http://www.faa.gov/air_traffic/publications/. For further information, you can contact the Airspace Policy Group, Federal Aviation Administration, 800 Independence Avenue SW, Washington, DC 20591; telephone: (202) 267-8783. The Order is also available for inspection at the National Archives and Records Administration (NARA). For information on the availability of FAA Order 7400.11B at NARA, call (202) 741-6030, or go to https://www.archives.gov/federal-register/cfr/ibr-locations.html.

FAA Order 7400.11, Airspace Designations and Reporting Points, is published yearly and effective on September 15.

FOR FURTHER INFORMATION CONTACT: Jeffrey Claypool, Federal Aviation Administration, Operations Support Group, Central Service Center, 10101 Hillwood Parkway, Fort Worth, TX 76177; telephone (817) 222-5711.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it establishes Class D airspace at Clinton-Sherman Airport, Burns Flat, OK; removes Class D airspace at Clinton-Sherman Airport, Clinton-Sherman Airport, OK; and amends Class E airspace extending upward from 700 feet above the surface at Clinton-Sherman Airport, Burns Flat, OK; Clinton Municipal Airport, Clinton, OK; and Elk City Regional Business Airport, Elk City, OK, to support the management of instrument flight rule (IFR) operations at these airports.

History

The FAA published a notice of proposed rulemaking in the Federal Register (82 FR 40078; August 24, 2017) for Docket No. FAA-2017-0618 to establish Class D airspace at Clinton-Sherman Airport, Burns Flat, OK; remove Class D airspace at Clinton-Sherman Airport, Clinton-Sherman Airport, OK; and amend Class E airspace extending upward from 700 feet above the surface at Clinton-Sherman Airport, Burns Flat, OK; Clinton Municipal Airport, Clinton, OK; and Elk City Regional Business Airport, Elk City, OK. Interested parties were invited to participate in this rulemaking effort by submitting written comments on the proposal to the FAA. No comments were received.

Class D and E airspace designations are published in paragraphs 5000 and 6005, respectively, of FAA Order 7400.11B, dated August 3, 2017, and effective September 15, 2017, which is incorporated by reference in 14 CFR 71.1. The Class D and E airspace designations listed in this document will be published subsequently in the Order.

Availability and Summary of Documents for Incorporation by Reference

This document amends FAA Order 7400.11B, Airspace Designations and Reporting Points, dated August 3, 2017, and effective September 15, 2017. FAA Order 7400.11B is publicly available as listed in the ADDRESSES section of this document. FAA Order 7400.11B lists Class A, B, C, D, and E airspace areas, air traffic service routes, and reporting points.

The Rule

This amendment to Title 14, Code of Federal Regulations (14 CFR) part 71:

Establishes Class D airspace within a 4.7-mile radius of Clinton-Sherman Airport, Burns Flat, OK, to replace the airspace designation of Clinton-Sherman Airport, Clinton-Sherman Airport, OK, and bring the airspace legal descriptions in line with the requirements of FAA Order 7400.2L, Procedures for Handling Airspace Matters;

Removes Class D airspace at Clinton-Sherman Airport, Clinton-Sherman Airport, OK; and

Modifies Class E airspace extending upward from 700 feet above the surface as follows:

Within a 7.2-mile radius (reduced from an 8.2-mile radius) of Clinton-Sherman Airport, Burns Flat, OK, and removes the Burns Flat VORTAC and extensions to the south and north of the airport from the airspace legal description;

Correcting the airspace header to Clinton, OK, (formerly Clinton Municipal Airport, OK) to comply with FAA Order 7400.2L, removes the extension south of Clinton Regional Airport (formerly Clinton Municipal Airport), adds an extension 2 miles each side of the 359° bearing from the airport from the 6.5-mile radius to 7 miles north of the airport, and updates the name of the airport to coincide with the FAA's aeronautical database; and

Within a 6.5-mile radius (increased from a 6.4-mile radius) of Elk City Regional Business Airport (formerly Elk City Municipal Airport), Elk City, OK, removes the extension to the northeast of the airport, removes the Elk City RBN from the airspace legal description, and updates the name and geographic coordinates of the airport to coincide with the FAA's aeronautical database.

Airspace reconfiguration is necessary due to the decommissioning of the Sayre VORTAC as part of the VOR MON Program, and to bring the airspace and airspace descriptions into compliance with FAA Order 7400.2L. Controlled airspace is necessary for the safety and management of standard instrument approach procedures for IFR operations at these airports.

Regulatory Notices and Analyses

The FAA has determined that this regulation only involves an established body of technical regulations for which frequent and routine amendments are necessary to keep them operationally current, is non-controversial and unlikely to result in adverse or negative comments. It, therefore: (1) Is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5.a. This airspace action is not expected to cause any potentially significant environmental impacts, and no extraordinary circumstances exist that warrant preparation of an environmental assessment.

Lists of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11B, Airspace Designations and Reporting Points, dated August 3, 2017, and effective September 15, 2017, is amended as follows:

Paragraph 5000 Class D Airspace.

* * * * *

ASW OK D Burns Flat, OK [New]

Clinton-Sherman Airport, OK

(Lat. 35°20′23″ N, long. 99°12′02″ W)

That airspace extending upward from the surface to and including 4,500 feet within a 4.7-mile radius of Clinton-Sherman Airport. This Class D airspace area is effective during the specific dates and times established in advance by a Notice to Airmen. The effective date and time will thereafter be continuously published in the Chart Supplement.

* * * * *

ASW OK D Clinton-Sherman Airport, OK [Removed]

Paragraph 6005 Class E Airspace Areas Extending Upward From 700 Feet or More Above the Surface of the Earth.

* * * * *

ASW OK E5 Burns Flat, OK [Amended]

Clinton-Sherman Airport, OK

(Lat. 35°20′23″ N, long. 99°12′02″ W)

That airspace extending upward from 700 feet above the surface within a 7.2-mile radius of Clinton-Sherman Airport.

* * * * *

ASW OK E5 Clinton, OK [Amended]

Clinton Regional Airport, OK

(Lat. 35°32′18″ N, long. 98°55′58″ W)

That airspace extending upward from 700 feet above the surface within a 6.5-mile radius of Clinton Regional Airport, and within 2.0 miles each side of the 359° bearing from the airport extending from the 6.5-mile radius to 7.0 miles north of the airport.

* * * * *

ASW OK E5 Elk City, OK [Amended]

Elk City Regional Business Airport, OK

(Lat. 35°25′51″ N, long. 99°23′39″W)

That airspace extending upward from 700 feet above the surface within a 6.5-mile radius of Elk City Regional Business Airport.

Issued in Fort Worth, Texas, on May 24, 2018.
Christopher L. Southerland,
Acting Manager, Operations Support Group, ATO Central Service Center.

[FR Doc. 2018-11858 Filed 6-4-18; 8:45 am]

BILLING CODE 4910-13-P